DEPARTMENT OF AGRICULTURE

Food Safety and Inspection Service

[Docket No. FSIS-2015-0011]

Codex Alimentarius Commission: Meeting of the Codex Alimentarius Commission

AGENCY: Office of the Under Secretary for Food Safety, USDA.

ACTION: Notice of public meeting and request for comments.

SUMMARY: The Office of the Under Secretary for Food Safety, U.S. Department of Agriculture (USDA) is sponsoring a public meeting on June 17, 2015. The objective of the public meeting is to provide information and receive public comments on agenda items and draft United States (U.S.) positions to be discussed at the 38th Session of the Codex Alimentarius Commission (CAC), taking place in Geneva, Switzerland, July 6-11, 2015. The Deputy Under Secretary for Food Safety recognizes the importance of providing interested parties the opportunity to obtain background information on the 38th Session of the CAC and to address items on the agenda.

DATES: The public meeting is scheduled for Wednesday, June 17, 2015 from 1:00-4:00 p.m.

ADDRESSES: The public meeting will take place at The Jamie L. Whitten Building, United States Department of Agriculture (USDA), 1400 Independence Avenue SW., Room 107-A, Washington, DC 20250. Documents related to the 38th Session of the CAC will be accessible via the Internet at the following address: http://www.codexalimentarius.org/meetings-reports/en/.

The U.S. Delegate to the 38th Session of the CAC invites U.S. interested parties to submit their comments electronically to the following email address: Barbara.McNiff@fsis.usda.gov.

Call in Number

If you wish to participate in the public meeting for the 38th Session of the CAC by conference call, please use the call in number and participant code listed below:

Call in Number: 1-888-844-9904.

The participant code will be posted on the Web page below: http://www.fsis.usda.gov/wps/portal/fsis/topics/international-affairs/us-codex-alimentarius/public-meetings.

Registration

Attendees may register to attend the public meeting by emailing barbara.mcniff@fsis.usda.gov by June 14, 2015. Early registration is encouraged because it will expedite entry into the building. The meeting will be held in a Federal building. Attendees should also bring photo identification and plan for adequate time to pass through security screening systems. Attendees who are not able to attend the meeting in person, but who wish to participate, may do so by phone.

For Further Information about the 38th Session of the CAC Contact: Barbara McNiff, U.S. Codex Office, 1400 Independence Avenue SW., Room 4861, Washington, DC 20250, Phone: (202) 690-4719 Fax: (202)720-3157, Email: Barbara.Mcniff@fsis.usda.gov.

For Further Information about the Public Meeting Contact: Jasmine Curtis, U.S. Codex Office, 1400 Independence Avenue SW., Room 4865 Washington, DC 20250, Phone: (202)205-7760 Fax: (202) 720-3157, Email: Jasmine.Curtis@fsis.usda.gov.

SUPPLEMENTARY INFORMATION:

Background

The Codex Alimentarius Commission (Codex) was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade; promotes coordination of all food standards work undertaken by international governmental and non-governmental organizations; determines priorities and initiates and guides the preparation of draft standards through and with the aid of appropriate organizations; finalizes standards elaborated and publishes them in a Codex Alimentarius (food code) either as regional or worldwide standards; and amends published standards, as appropriate, in the light of new developments.

Issues To Be Discussed at the Public Meeting

The following items on the Agenda for the 38th Session of CAC will be discussed during the public meeting:

• Adoption of the Agenda

• Report by the Chairperson on the 70th Session of the Executive Committee

• Reports of FAO/WHO Coordinating Committees

• Proposed amendments to the Procedural Manual/Comments

• Development of Codex Standards and related texts

(a) Final adoption (at Steps 8, 5/8 and 5a)/Comments

(b) Adoption at Step 5/Comments

(c) Revocation

(d) Proposals for New Work

(e) Proposals for Discontinuation of Work

(f) Amendments to Codex Standards and Related Texts

• Matters referred to the Commission by Codex Committees

(a) Codex Work Management and Functioning of the Executive Committee

(b) Revitalization of FAO/WHO Coordinating Committees

(c) Other matters

• Codex Strategic plan 2014-2019: General Implementation Status

• Financial and Budgetary Matters

(a) Codex

(b) FAO/WHO Scientific Support to Codex

• Matter arising from FAO and WHO

(a) Scientific Advice to Codex and Member States

(b) Capacity Building Activities of FAO and WHO

(d) FAO/WHO Project and Trust Fund for Enhanced Participation in Codex

• Relations between the Codex Alimentarius Commission and other International Organizations

• Election of the Chairperson and Vice-Chairpersons and Members elected on Geographical basis and appointment of the Coordinators

• Designation of Countries responsible for Appointing the Chairpersons of Codex Committees and Schedule of Sessions 2016-2017

• Other Business

Each issue listed will be fully described in documents distributed, or to be distributed, by the Secretariat prior to the Meeting. Members of the public may access or request copies of these documents (see ADDRESSES).

Public Meeting

At the June 17, 2015 public meeting, draft U.S. positions on the agenda items will be described, discussed, and attendees will have the opportunity to pose questions and offer comments. Written comments may be offered at the meeting or sent to the U.S. Delegate for the 38th Session of CAC (see ADDRESSES). Written comments should state that they relate to activities of the 38th session of the CAC.

Additional Public Notification

Public awareness of all segments of rulemaking and policy development is important. Consequently, FSIS will announce this Federal Register publication on-line through the FSIS Web page located at: http://www.fsis.usda.gov/federal-register .

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

Email: program.intake@usda.gov.

Persons with disabilities who require alternative means for communication (Braille, large print, audiotape, etc.), should contact USDA's TARGET Center at (202) 720-2600 (voice and TDD).

Done at Washington, DC on April 17, 2015.
Mary Frances Lowe,
U.S. Manager for Codex Alimentarius.

[FR Doc. 2015-09387 Filed 4-21-15; 8:45 am]

BILLING CODE 3410-DM-P